DEPARTMENT OF TRANSPORTATION

Federal Aviation Administration

14 CFR Part 39

[Docket No. FAA-2013-0145; Directorate Identifier 2012-SW-059-AD; Amendment 39-17554; AD 2013-16-16]

RIN 2120-AA64

Airworthiness Directives; Agusta S.p.A. and Bell Helicopter Textron Helicopters

AGENCY: Federal Aviation Administration (FAA), DOT.

ACTION: Final rule.

SUMMARY: We are adopting a new airworthiness directive (AD) for Agusta S.p.A. (Agusta) Model AB412 and AB412 EP, and Bell Helicopter Textron (Bell) Model 412, 412CF, and 412EP helicopters with certain DART Aerospace Ltd. (Dart) high gear aft crosstubes (crosstube) installed. This AD requires adding a life limit of 10,000 landings to the crosstube and removing from service any crosstubes with more than 10,000 accumulated landings. This AD is prompted by five separate reports of crosstube failures. The actions in this AD are intended to prevent failure of the crosstube and subsequent collapse of the landing gear.

DATES: This AD is effective September 17, 2013.

ADDRESSES: For service information identified in this AD, contact Dart Aerospace LTD., 1270 Aberdeen St, Hawkesbury, ON, K6A 1K7, Canada; telephone: 1 613 632 5200; Fax: 1 613 632 5246; or at www.dartaero.com. You may review the referenced service information at the FAA, Office of the Regional Counsel, Southwest Region, 2601 Meacham Blvd., Room 663, Fort Worth, Texas 76137.

Examining the AD Docket

You may examine the AD docket on the Internet at http://www.regulations.gov or in person at the Docket Operations Office between 9 a.m. and 5 p.m., Monday through Friday, except Federal holidays. The AD docket contains this AD, the foreign authority's AD, any incorporated-by-reference service information, the economic evaluation, any comments received, and other information. The street address for the Docket Operations Office (phone: 800-647-5527) is U.S. Department of Transportation, Docket Operations Office, M-30, West Building Ground Floor, Room W12-140, 1200 New Jersey Avenue SE., Washington, DC 20590.

FOR FURTHER INFORMATION CONTACT: Jeffrey Zimmer, Airframe Engineer, New York Aircraft Certification Office, Engine and Propeller Directorate, FAA, 1600 Stewart Ave., Suite 410, Westbury, New York 11590; telephone (516) 228-7306; email jeffrey.zimmer@faa.gov.

SUPPLEMENTARY INFORMATION:

Discussion

On February 25, 2013, at 78 FR 12646, the Federal Register published our notice of proposed rulemaking (NPRM), which proposed to amend 14 CFR part 39 to include an AD that would apply to Agusta Model AB412 and AB412 EP, and Bell Model 412, 412CF, and 412EP helicopters with certain Dart crosstubes installed. The NPRM proposed to require establishing a component history card for each crosstube, P/N D412-664-203; revising the airworthiness limitations of the maintenance manual to establish a life limit of 10,000 landings for each crosstube; and removing from service any crosstube with more than 10,000 landings. The proposed requirements were intended to prevent failure of the crosstube and subsequent collapse of the landing gear.

The NPRM was prompted by AD No. CF-2012-14R1, dated May 9, 2012, issued by Transport Canada Civil Aviation (TCCA), which is the aviation authority for Canada. TCCA issued AD No. CF-2012-14R1 to correct an unsafe condition for the Dart high gear aft crosstube assembly, part number (P/N) D412-664-203, approved under TCCA Supplemental Type Certificate (STC) SH01-9, FAA STC No. SR01298NY, and European Aviation Safety Agency STC IM.R.S.01304, and installed on Agusta Model AB412 and AB412 EP and Bell Model 412, 412EP, and 412CF helicopters. TCCA advises that they have received five reports of these crosstubes failing. According to TCCA, based on these reports, the affected crosstube requires a life limitation of 10,000 landings. As a result, TCCA issued AD No. CF-2012-14R1, which requires amending the instructions for continued airworthiness (ICA) to establish the new life limitation, and removing from service all crosstubes with more than 10,000 landings.

Comments

We gave the public the opportunity to participate in developing this AD, but we did not receive any comments on the NPRM (78 FR 12646, February 25, 2013).

FAA's Determination

These helicopters have been approved by the aviation authority of Canada and are approved for operation in the United States. Pursuant to our bilateral agreement with Canada, TCCA, its technical representative, has notified us of the unsafe condition described in the TCCA AD. We are issuing this AD because we evaluated all information provided by TCCA and determined the unsafe condition exists and is likely to exist or develop on other helicopters of these same type designs and that air safety and the public interest require adopting the AD requirements as proposed.

Related Service Information

We reviewed Dart ICA No. ICA-D212-664, Revision 8, dated October 20, 2011, which contains the airworthiness limitations, inspection requirements, proper placards and markings, and maintenance procedures for crosstube P/N D212-664 and D412-664. Revision 8 establishes a life limit of 10,000 landings for crosstube P/N D412-664-203.

Costs of Compliance

We estimate that this AD will affect 76 helicopters of U.S. Registry. Based on an average labor cost of $85 per hour, we estimate that operators may incur the following costs in order to comply with this AD. Creating a component history card and amending the ICA requires about 1 work-hour, for a cost per helicopter of $85 and a total cost to U.S. operators of $6,460. Replacing a crosstube that has exceeded its life-limit requires about 6 work-hours and required parts will cost about $10,351, for a total cost per helicopter of $10,861.

Authority for This Rulemaking

Title 49 of the United States Code specifies the FAA's authority to issue rules on aviation safety. Subtitle I, section 106, describes the authority of the FAA Administrator. Subtitle VII: Aviation Programs, describes in more detail the scope of the Agency's authority.

We are issuing this rulemaking under the authority described in Subtitle VII, Part A, Subpart III, Section 44701: “General requirements.” Under that section, Congress charges the FAA with promoting safe flight of civil aircraft in air commerce by prescribing regulations for practices, methods, and procedures the Administrator finds necessary for safety in air commerce. This regulation is within the scope of that authority because it addresses an unsafe condition that is likely to exist or develop on helicopters identified in this rulemaking action.

Regulatory Findings

This AD will not have federalism implications under Executive Order 13132. This AD will not have a substantial direct effect on the States, on the relationship between the national government and the States, or on the distribution of power and responsibilities among the various levels of government.

For the reasons discussed above, I certify that this AD:

(1) Is not a “significant regulatory action” under Executive Order 12866;

(2) Is not a “significant rule” under DOT Regulatory Policies and Procedures (44 FR 11034, February 26, 1979);

(3) Will not affect intrastate aviation in Alaska to the extent that it justifies making a regulatory distinction; and

(4) Will not have a significant economic impact, positive or negative, on a substantial number of small entities under the criteria of the Regulatory Flexibility Act.

We prepared an economic evaluation of the estimated costs to comply with this AD and placed it in the AD docket.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive (AD):

2013-16-16 Agusta S.p.A. and Bell Helicopter Textron Helicopters: Amendment 39-17554; Docket No. FAA-2013-0145; Directorate Identifier 2013-SW-059-AD.

(a) Applicability

This AD applies to Agusta S.p.A. Model AB412 and AB412 EP helicopters and Bell Helicopter Textron Model 412, 412CF, and 412EP helicopters with a DART Aerospace Ltd. high gear aft crosstube (crosstube), part-number (P/N) D412-664-203 installed under Supplemental Type Certificate (STC) No. SR01298NY, certificated in any category.

(b) Unsafe Condition

This AD defines the unsafe condition as failure of a crosstube, which could result in collapse of the landing gear.

(c) Effective Date

This AD becomes effective September 17, 2013.

(d) Compliance

You are responsible for performing each action required by this AD within the specified compliance time unless it has already been accomplished prior to that time.

(e) Required Actions

Within 30 days:

(1) Create a component history card or equivalent record for each crosstube. Determine the number of landings on each crosstube and enter it on the component history card or equivalent record. If the number of landings is unknown, calculate 10 landings per flight hour.

(2) Revise the Airworthiness Limitations section of the maintenance manual to reflect that crosstube, P/N D412-664-203, has a retirement life of 10,000 landings.

(3) Remove from service any crosstube with a number of landings equal to or greater than 10,000.

(f) Alternative Methods of Compliance (AMOCs)

(1) The Manager, New York Aircraft Certification Office, FAA, may approve AMOCs for this AD. Send your proposal to: ATTN: Program Manager, Continuing Operational Safety, FAA, New York ACO, 1600 Stewart Ave., Suite 410, Westbury, New York 11590; telephone (516) 228-7300; fax (516) 794-5531.

(2) For operations conducted under a 14 CFR part 119 operating certificate or under 14 CFR part 91, subpart K, we suggest that you notify your principal inspector, or lacking a principal inspector, the manager of the local flight standards district office or certificate holding district office, before operating any aircraft complying with this AD through an AMOC.

(g) Additional Information

(1) Dart Instructions for Continued Airworthiness No. ICA-D212-664, Revision 8, dated October 20, 2011, which is not incorporated by reference, contains additional information about the subject of this AD. For service information identified in this AD, contact Dart Aerospace LTD., 1270 Aberdeen St, Hawkesbury, ON, K6A 1K7, Canada; telephone: 1 613 632 5200; Fax: 1 613 632 5246; or at www.dartaero.com. You may review a copy of the service information at the FAA, Office of the Regional Counsel, Southwest Region, 2601 Meacham Blvd., Room 663, Fort Worth, Texas 76137.

(2) The subject of this AD is addressed in Transport Canada Civil Aviation (TCCA) AD No. CF-2012-14R1, dated May 9, 2012. You may view a copy of the TCCA AD and a copy of STC No. SR01298NY in the AD Docket on the Internet at http:/www.regulations.gov.

(h) Subject

Joint Aircraft Service Component (JASC) Code: 3213: Main Landing Gear Strut/Axle/Truck.

Issued in Fort Worth, Texas, on August 2, 2013.
Lance T. Gant,
Acting Directorate Manager, Rotorcraft Directorate, Aircraft Certification Service.

[FR Doc. 2013-19434 Filed 8-12-13; 8:45 am]

BILLING CODE 4910-13-P